DEPARTMENT OF ENERGY

Federal Energy Regulatory Commission

Combined Notice of Filings #1

Take notice that the Commission received the following electric corporate filings:

Docket Numbers: EC24-80-000.

Applicants: Maple Flats Solar Energy Center LLC, WEC Infrastructure LLC.

Description: Joint Application for Authorization Under Section 203 of the Federal Power Act of Maple Flats Solar Energy Center LLC, et al.

Filed Date: 5/23/24.

Accession Number: 20240523-5228.

Comment Date: 5 p.m. ET 7/8/24.

Take notice that the Commission received the following electric rate filings:

Docket Numbers: ER22-2948-000.

Applicants: Puget Sound Energy, Inc.

Description: Motion to Accept Report Out of Time of Puget Sound Energy, Inc.

Filed Date: 9/23/22.

Accession Number: 20220923-5221.

Comment Date: 5 p.m. ET 6/25/24.

Docket Numbers: ER24-697-001.

Applicants: Westlands Solar Blue (OZ) Owner, LLC.

Description: Refund Report: Refund Report and Request for Confidential Treatment to be effective N/A.

Filed Date: 6/4/24.

Accession Number: 20240604-5014.

Comment Date: 5 p.m. ET 6/25/24.

Docket Numbers: ER24-698-001.

Applicants: Castanea Project, LLC.

Description: Refund Report: Refund Report and Request for Confidential Treatment to be effective N/A.

Filed Date: 6/4/24.

Accession Number: 20240604-5016.

Comment Date: 5 p.m. ET 6/25/24.

Docket Numbers: ER24-1697-000.

Applicants: AES Westwing II ES, LLC.

Description: Supplement to 04/04/2024, AES Westwing II ES, LLC tariff filing.

Filed Date: 5/31/24.

Accession Number: 20240531-5454.

Comment Date: 5 p.m. ET 6/10/24.

Docket Numbers: ER24-2180-000.

Applicants: PJM Interconnection, L.L.C.

Description: Tariff Amendment: Notice of Cancellation of Two ISAs, SA Nos. 2833 and 2834 to be effective 5/3/2024.

Filed Date: 6/3/24.

Accession Number: 20240603-5228.

Comment Date: 5 p.m. ET 6/24/24.

Docket Numbers: ER24-2181-000.

Applicants: Public Service Company of Colorado.

Description: § 205(d) Rate Filing: 2024-06-03 FRMS-GI-2014-6-LGIA Amnd 3-458-0.0.0 to be effective 6/4/2024.

Filed Date: 6/3/24.

Accession Number: 20240603-5235.

Comment Date: 5 p.m. ET 6/24/24.

Docket Numbers: ER24-2182-000.

Applicants: Public Service Company of Colorado.

Description: § 205(d) Rate Filing: 2024-06-03 FRMS-GI-2014-6-Surplus LGIA Amnd 2-584-0.2.0 to be effective 6/4/2024.

Filed Date: 6/3/24.

Accession Number: 20240603-5240.

Comment Date: 5 p.m. ET 6/24/24.

Docket Numbers: ER24-2183-000.

Applicants: Big Rock ESS Assets LLC.

Description: Baseline eTariff Filing: Big Rock ESS Assets LLC MBR Application Filing to be effective 8/3/2024.

Filed Date: 6/4/24.

Accession Number: 20240604-5106.

Comment Date: 5 p.m. ET 6/25/24.

Docket Numbers: ER24-2184-000.

Applicants: Southwest Power Pool, Inc.

Description: § 205(d) Rate Filing: Revisions to Expand the RTO into the Western Interconnection (Part 1 of 2) to be effective 12/31/9998.

Filed Date: 6/4/24.

Accession Number: 20240604-5135.

Comment Date: 5 p.m. ET 6/25/24.

Docket Numbers: ER24-2185-000.

Applicants: Southwest Power Pool, Inc.

Description: § 205(d) Rate Filing: Revisions to Expand the RTO into the Western Interconnection (Part 2 of 2) to be effective 12/31/9998.

Filed Date: 6/4/24.

Accession Number: 20240604-5138.

Comment Date: 5 p.m. ET 6/25/24.

Docket Numbers: ER24-2186-000.

Applicants: Southwest Power Pool, Inc., NorthWestern Energy Public Service Corporation.

Description: § 205(d) Rate Filing: Southwest Power Pool, Inc. submits tariff filing per 35.13(a)(2)(iii: NorthWestern Energy—Formula Rates Revisions to be effective 1/1/2024.

Filed Date: 6/4/24.

Accession Number: 20240604-5189.

Comment Date: 5 p.m. ET 6/25/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: June 4, 2024.
Debbie-Anne A. Reese,
Acting Secretary.

[FR Doc. 2024-12681 Filed 6-10-24; 8:45 am]

BILLING CODE 6717-01-P